DEPARTMENT OF TRANSPORTATION

Federal Railroad Administration

Petitions for Waivers of Compliance

In accordance with Title 49 Code of Federal Regulations (CFR) § 211.41, and 49 U.S.C. 20103, notice is hereby given that the Federal Railroad Administration (FRA) has received a request for waiver of compliance with certain requirements of the Federal railroad safety regulations. See also 49 CFR 211.7 and 211.9. The individual petition is described below, including the party seeking relief, the regulatory provisions involved, and the nature of the relief being sought.

North County Transit District

[Docket Number FRA-2002-11809]

The North County Transit District (“NCTD”), located in Oceanside, California, seeks a permanent waiver of compliance from certain CFR Parts of Title 49, specifically: Part 210, Railroad Noise Emission Compliance Regulations; Part 217, Railroad Operating Rules; Part 218, Railroad Operating Practices; Part 219, Control of Alcohol and Drug Use; Part 221, Rear End Marking Devices—Passenger, Commuter and Freight Trains; Part 223, Safety Gazing Standards—Locomotives, Passenger Cars and Cabooses; Part 225, Railroad Accidents/Incidents: Report Classification, and Investigations; Part 229, Railroad Locomotive Safety Standards; Part 231 Railroad Safety Appliance Standards; Part 238, Passenger Equipment Safety Standards; Part 239, Passenger Train Emergency Preparedness; and Part 240, Qualification and Certification of Locomotive Engineers.

NCTD seeks approval of shared track usage and waiver of certain FRA regulations involving planned light rail passenger operations on the same track with freight trains between Oceanside, CA and Escondido, CA (Oceanside-Escondido Rail Project). FRA will have jurisdiction over the 22-mile portion of the NCTD Oceanside-Escondido Rail Project that is also used for freight rail carrier service. The freight operator is The Burlington Northern and Santa Fe Railway Company (BNSF), and BNSF currently conducts operations over this trackage. NCTD proposes to operate light rail vehicles on the same track as BNSF freight trains, but under temporal separation. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

Since FRA has not yet completed its investigation of NCTD's petition, the agency takes no position at this time on the merits of NCTD's stated justifications. As part of FRA's review of the petition, the Federal Transit Administration will appoint a representative to advise FRA's Safety Board, and that person will participate in the board's consideration of NCTD's waiver petition.

All communications concerning these proceedings should identify the appropriate docket number (Docket Number FRA 2002-11809) and must be submitted to the DOT Docket Management Facility, Room PL-401 (Plaza level) 400 Seventh Street, SW., Washington, DC 20590. All documents in the public docket, including NCTD's detailed waiver request, are also available for inspection and copying on the Internet at the docket facility's Web site at http://dms.dot.gov. Communications received within 45 days of the date of this notice will be considered by FRA before final action is taken. Comments received after that date will be considered to the extent practicable. All written communications concerning this proceeding are available for examination during regular business hours (9:00 a.m.-5:00 p.m.) at the above-referenced facility.

Issued in Washington, DC, on March 19, 2002.
Grady C. Cothen, Jr.,
Deputy Associate Administrator, for Safety Standards and Program Development.

[FR Doc. 02-7353 Filed 3-26-02; 8:45 am]

BILLING CODE 4910-06-P